DEPARTMENT OF HEALTH AND HUMAN SERVICES

Food and Drug Administration

21 CFR Part 101

[Docket No. FDA-2011-F-0171]

Food Labeling; Calorie Labeling of Articles of Food in Vending Machines; Correction

AGENCY: Food and Drug Administration, HHS.

ACTION: Proposed rule; correction.

SUMMARY: The Food and Drug Administration (FDA) is correcting a proposed rule that appeared in the Federal Register of April, 6, 2011 (76 FR 19238). To implement the vending machine labeling provisions of the Patient Protection and Affordable Care Act of 2010 (Affordable Care Act), FDA proposed requirements for providing calorie information for certain articles of food sold from vending machines. The document published with several errors including an incorrect contact phone number and an incomplete address. This document corrects those errors.

FOR FURTHER INFORMATION CONTACT: Daniel Y. Reese, Center for Food Safety and Applied Nutrition (HFS-820), Food and Drug Administration, 5100 Paint Branch Pkwy., College Park, MD 20740, 240-402-2371.

SUPPLEMENTARY INFORMATION: In FR Doc. 2011-8037, appearing in the Federal Register of April 6, 2011 (76 FR 19238), the following corrections are made:

1. On page 19238, in the second column, under FOR FURTHER INFORMATION CONTACT the phone number “301-436-2371” is corrected to read “240-402-2371”.

2. On page 19239, in the third column, in the last paragraph, the last sentence, “ `Act' is defined as the Federal Food, Drug, and Cosmetic Act.” is removed.

3. On page 19243, in the first column, beginning in the 29th line, the phrase “FDA is proposing in § 101.8(c)(2)(i)(B) and § 101.8(c)(2)(i)(C) that the calorie declaration * * *.” is corrected to read “FDA is proposing in § 101.8(c)(2)(i)(C) that the calorie declaration * * *.”

4. On page 19243, in the second column, in the first full paragraph, “§ 101.8(c)(2)(ii)(B)” is corrected to read “§ 101.8(c)(2)(ii)(C)”.

5. On page 19255, in the first column, in proposed § 101.8(d)(3)(v), the phrase, “FDA, White Oak Building 22, Rm. 0209, 10903 New Hampshire Ave., Silver Spring, MD 20993.” is corrected to read “FDA, CFSAN Menu and Vending Machine Labeling Registration, White Oak Building 22, Rm. 0209, 10903 New Hampshire Ave., Silver Spring, MD 20993.”

Dated: June 21, 2011.
Leslie Kux,
Acting Assistant Commissioner for Policy.

[FR Doc. 2011-15983 Filed 6-24-11; 8:45 am]

BILLING CODE 4164-01-P